DEPARTMENT OF LABOR

Employment and Training Administration

[NAFTA-5506]

Syst-A-Matic Tool and Design, Meadville, PA; Notice of Termination of Investigation

Pursuant to Title V of the North American Free Trade Agreement Implementation Act (Pub. L. 103-182) concerning transitional adjustment assistance, hereinafter called (NAFTA-TAA), and in accordance with section 250(a), Subchapter D, Chapter 2, Title II, of the Trade Act of 1974, as amended (19 U.S.C. 2273), an investigation was initiated on October 29, 2001, in response to a petition filed by the company on behalf of workers at Syst-A-Matic Tool and Design, Meadvile, Pennsylvania.

The petitioning worker group is the subject of an existing NAFTA petition investigation (NAFTA-5471). Consequently, further investigation in this case would serve no purpose, and the investigation has been terminated.

Signed at Washington, DC this 20th day of December 2001.
Linda G. Poole,
Certifying Officer, Division of Trade Adjustment Assistance.

[FR Doc. 01-32204 Filed 12-31-01; 8:45 am]

BILLING CODE 4510-30-M